DEPARTMENT OF TRANSPORTATION

Federal Aviation Administration

14 CFR Part 27

[Docket No. FAA-2009-0413; Notice No. 10-04]

RIN 2120-AJ51

Fatigue Tolerance Evaluation of Metallic Structures; Extension of Comment Period

AGENCY: Federal Aviation Administration (FAA), DOT.

ACTION: Notice of proposed rulemaking (NPRM); extension of comment period.

SUMMARY: This action extends the comment period for a NPRM that was published on March 12, 2010. In that document, the FAA proposed to amend the airworthiness standards for fatigue tolerance evaluation (FTE) of transport category metallic rotorcraft structures. This notice responds to a request from the European Aviation Safety Agency (EASA) to extend the comment period to the proposal.

DATES: The comment period for the NPRM published on March 12, 2010 (75 FR 11799) which was scheduled to close on June 10, 2010, is extended until July 30, 2010.

ADDRESSES: You may send comments identified by Docket Number FAA-2009-0413 using any of the following methods:

• Federal eRulemaking Portal: Go to http://www.regulations.gov and follow the instructions for sending your comments electronically.

• Mail: Send comments to Docket Operations, M-30, U.S. Department of Transportation, 1200 New Jersey Avenue, SE., Room W12-140, West Building Ground Floor, Washington, DC 20590-0001.

• Fax: Fax comments to Docket Operations at 202-493-2251.

• Hand Delivery or Courier: Deliver comments to Docket Operations in Room W12-140 of the West Building Ground Floor at 1200 New Jersey Avenue, SE, Washington, DC, between 9 a.m. and 5 p.m., Monday through Friday, except Federal holidays.

For more information on the rulemaking process, see the SUPPLEMENTARY INFORMATION section of this document.

Privacy: We will post all comments we receive, without change, to http://www.regulations.gov, including any personal information you provide. Using the search function of our docket web site, anyone can find and read the comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time or to Docket Operations in Room W12-140 of the West Building Ground Floor at 1200 New Jersey Avenue, SE., Washington, DC, between 9 a.m. and 5 p.m., Monday through Friday, except Federal holidays.

FOR FURTHER INFORMATION CONTACT: Minh-Hai Tran-Lam, ARM-207, Office of Rulemaking, Federal Aviation Administration, 800 Independence Avenue, SW., Washington, DC 20591, telephone (202) 493-4963.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Availability of Rulemaking Documents

You can get an electronic copy using the Internet by:

(1) Searching the Federal eRulemaking Portal at http://www.regulations.gov;

(2) Visiting the Office of Rulemaking's web page at http://www.faa.gov/avr/arm/index.cfm; or

(3) Accessing the Government Printing Office's web page at http://www.gpoaccess.gov/fr/index.html.

You can also get a copy by sending a request to the Federal Aviation Administration, Office of Rulemaking, ARM-1, 800 Independence Avenue, SW., Washington, DC 20591, or by calling (202) 267-9680. Make sure to identify the docket number or notice number of this rulemaking.

Background

On March 7, 2010, the Federal Aviation Administration (FAA) published Notice No. 10-04, Fatigue Tolerance Evaluation of Metallic Structures (75 FR 11799, 3/12/2010). Comments to that document were to be received on or before June 10, 2010.

By letter dated March 22, 2010, the European Aviation Safety Agency (EASA) addressed the joint interest in this rulemaking objective on the international level. EASA will be issuing an associated Notice of Proposed Amendment (NPA) with anticipated close of comment period in the July 2010 timeframe. EASA stated that in order to provide final rules that are harmonized as much as possible, it will be essential that technical cooperation is maintained and that comments arising from both the NPRM and NPA processes are jointly dispositioned by technical experts from each aviation authority. EASA requested that the FAA extend the comment period for Notice No. 10-04 to coincide with their NPA close of comment period, to allow the rulemaking processes of the FAA and EASA to better align and to facilitate achieving the objective of common international standards.

Extension of Comment Period

In accordance with § 11.47(c) of title 14, Code of Federal Regulations, the FAA has reviewed the petition made by EASA for extension of the comment period to Notice No. 10-04. This petitioner has shown a substantive interest in the proposed rule and good cause for the extension. The FAA has determined that extension of the comment period is consistent with the public interest, and that good cause exists for taking this action.

Accordingly, the comment period for Notice No. 10-04 is extended until July 30, 2010.

Issued in Washington, DC, on April 30, 2010.
Pamela Hamilton-Powell,
Director, Office of Rulemaking.

[FR Doc. 2010-10556 Filed 5-4-10; 8:45 am]

BILLING CODE 4910-13-P